DEPARTMENT OF STATE

[Public Notice: 9159]

60-Day Notice of Proposed Information Collection; Seven DDTC Information Collections

ACTION: Notice of request for public comments.

SUMMARY: The Department of State is seeking Office of Management and Budget (OMB) approval for the information collections described below. In accordance with the Paperwork Reduction Act of 1995, we are requesting comments on these collections from all interested individuals and organizations. The purpose of this notice is to allow 60 days for public comment preceding submission of the collections to OMB.

DATES: The Department will accept comments from the public up to 60 days from June 2, 2015.

ADDRESSES: Comments and questions should be directed to Mr. Robert Hart, Office of Defense Trade Controls Policy, U.S. Department of State, who may be reached via the following methods:

• Internet: Persons with access to the Internet may use the Federal Docket Management System (FDMS) to comment on this notice by going to www.regulations.gov and searching for the document by entering the docket ID: “DOS-2015-0022” in the search bar. If necessary, use the “narrow by agency” filter option on the results page.

• Email: hartrl@state.gov.

• Mail: Mr. Robert Hart, SA-1, 12th Floor, Directorate of Defense Trade Controls, Bureau of Political-Military Affairs, U.S. Department of State, Washington, DC 20522-0112.

You must include the relevant information collection title and the OMB control number in any correspondence.

FOR FURTHER INFORMATION CONTACT: Direct requests for additional information to Mr. Robert Hart, PM/DDTC, SA-1, 12th Floor, Directorate of Defense Trade Controls, Bureau of Political-Military Affairs, U.S. Department of State, Washington, DC 20522-0112, who may be reached via phone at (202) 663-2918, or via email at hartrl@state.gov.

• Title of Information Collection: Statement of Registration.

• OMB Control Number: 1405-0002.

• Type of Request: Extension of Currently Approved Collection.

• Originating Office: Bureau of Political-Military Affairs, Directorate of Defense Trade Controls, PM/DDTC.

• Form Number: DS-2032.

• Respondents: Business and Nonprofit Organizations.

• Estimated Number of Respondents: 12,500.

• Estimated Number of Responses: 12,500.

• Average Hours Per Response: 1 hour.

• Total Estimated Burden: 12,500 hours.

• Frequency: Annually.

• Obligation to Respond: Required in Order to Obtain or Retain Benefits.

• Title of Information Collection: Annual Brokering Report.

• OMB Control Number: 1405-0141.

• Type of Request: Extension of Currently Approved Collection.

• Originating Office: Bureau of Political-Military Affairs, Directorate of Defense Trade Controls, PM/DDTC.

• Form Number: None.

• Respondents: Business and Nonprofit Organizations.

• Estimated Number of Respondents: 1,057.

• Estimated Number of Responses: 1,057

• Average Hours Per Response: 2 hours.

• Total Estimated Burden: 2114 hours.

• Frequency: Annually.

• Obligation to Respond: Required in Order to Obtain or Retain Benefits.

• Title of Information Collection: Brokering Prior Approval (License).

• OMB Control Number: 1405-0142.

• Type of Request: Extension of Currently Approved Collection.

• Originating Office: Bureau of Political-Military Affairs, Directorate of Defense Trade Controls, PM/DDTC.

• Form Number: None.

• Respondents: Business and Nonprofit Organizations.

• Estimated Number of Respondents: 100.

• Estimated Number of Responses: 100.

• Average Hours Per Response: 2 hours.

• Total Estimated Burden: 200 hours.

• Frequency: On occasion.

• Obligation to Respond: Voluntary.

• Title of Information Collection: Commodity Jurisdiction Determination.

• OMB Control Number: 1405-0163.

• Type of Request: Extension of Currently Approved Collection.

• Originating Office: Bureau of Political-Military Affairs, Directorate of Defense Trade Controls, PM/DDTC.

• Form Number: DS-4076.

• Respondents: Business and Nonprofit Organizations.

• Estimated Number of Respondents: 1,090.

• Estimated Number of Responses: 1,090.

• Average Hours Per Response: 10 hours.

• Total Estimated Burden: 10,900 hours.

• Frequency: On occasion.

• Obligation to Respond: Voluntary.

• Title of Information Collection: Request to Change End User, End Use and/or Destination of Hardware.

• OMB Control Number: 1405-0173.

• Type of Request: Extension of Currently Approved Collection.

• Originating Office: Bureau of Political-Military Affairs, Directorate of Defense Trade Controls, PM/DDTC.

• Form Number: None.

• Respondents: Business and Nonprofit Organizations.

• Estimated Number of Respondents: 3,000.

• Estimated Number of Responses: 3,000.

• Average Hours Per Response: 1 hour.

• Total Estimated Burden: 3,000 hours.

• Frequency: On Occasion.

• Obligation to Respond: Voluntary.

• Title of Information Collection: Request for an Advisory Opinion.

• OMB Control Number: 1405-0174.

• Type of Request: Extension of Currently Approved Collection.

• Originating Office: Bureau of Political-Military Affairs, Directorate of Defense Trade Controls, PM/DDTC.

• Form Number: None.

• Respondents: Business and Nonprofit Organizations.

• Estimated Number of Respondents: 150.

• Estimated Number of Responses: 166.

• Average Hours Per Response: 1 hour.

• Total Estimated Burden: 166 hours.

• Frequency: On Occasion.

• Obligation to Respond: Voluntary.

• Title of Information Collection: Voluntary Disclosure.

• OMB Control Number: 1405-0179.

• Type of Request: Extension of Currently Approved Collection.

• Originating Office: Bureau of Political-Military Affairs, Directorate of Defense Trade Controls, PM/DDTC.

• Form Number: None.

• Respondents: Business and Nonprofit Organizations.

• Estimated Number of Respondents: 750.

• Estimated Number of Responses: 1300.

• Average Hours Per Response: 10 hours.

• Total Estimated Burden: 13,000 hours.

• Frequency: On Occasion.

• Obligation to Respond: Voluntary.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collections: The export, temporary import, and brokering of defense articles, defense services, and related technical data are licensed by the Directorate of Defense Trade Controls (DDTC) in accordance with the International Traffic in Arms Regulations (“ITAR,” 22 CFR 120-130) and Section 38 of the Arms Export Control Act. Those who manufacture or export or temporarily import defense articles, defense services, and related technical data, or the brokering thereof, must register with the Department of State. Persons desiring to engage in export, temporary import, and brokering activities must submit an application or written request to conduct the transaction to the Department to obtain a decision whether it is in the interests of U.S. foreign policy and national security to approve the transaction. Also, registered brokers must submit annual reports regarding all brokering activity that was transacted, and registered manufacturers and exporter must maintain records of defense trade activities for five years.

• 1405-0002, Statement of Registration: The Directorate of Defense Trade Controls (DDTC) is responsible for the collection of registration fees from persons in the business of manufacturing, exporting, and/or brokering defense articles or defense services.

• 1405-0141, Annual Brokering Report: In accordance with Part 129 of the International Traffic in Arms Regulations, U.S. and foreign persons required to register as a broker shall provide annually a report to DDTC enumerating and describing brokering activities by quantity, type, U.S. dollar value, purchaser/recipient, and license number for approved activities and any exemptions utilized for other covered activities.

• 1405-0142, Brokering Prior Approval (License): In accordance with Part 129 of the ITAR, U.S. and foreign persons who wish to engage in ITAR-controlled brokering activity of defense articles and defense services must first register with DDTC. Brokers must then submit a written request for approval to DDTC and receive DDTC's consent prior to engaging in such activities unless exempted.

• 1405-0163, Commodity Jurisdiction Determination: The information submitted pursuant to this collection will be used to evaluate whether a particular defense article or defense service is covered by the U.S. Munitions List, and therefore is subject to export licensing jurisdiction of the Department of State. This collection may also be used to request a change in U.S. Munitions List category designation, request the removal a defense article from the U.S. Munitions List, or request the reconsideration of a previous commodity jurisdiction determination.

• 1405-0173, Request to Change End User, End Use and/or Destination of Hardware: This information collection is used to request DDTC approval prior to any sale, transfer, transshipment, or disposal, whether permanent or temporary, of classified or unclassified defense articles to any end user, end use, or destination other than as stated on a license or other approval.

• 1405-0174, Request for an Advisory Opinion: A Request for Advisory Opinion is submitted when an exporter wants an opinion from the Directorate of Defense Trade Controls on whether it would likely grant a license or other approval for an export transaction involving defense articles and defense services.

• 1405-0179, Voluntary Disclosure: Section 127.12 of the International Traffic in Arms Regulations (ITAR) encourages the voluntary disclosure of information to the Directorate of Defense Trade Controls by persons who believe they may have violated any provision of the Arms Export Control Act (AECA), ITAR, or any order, license, or other authorization issued under the AECA.

Methodology: This information collection may be sent to the Directorate of Defense Trade Controls via the following methods: electronically or mail.

Dated: May 21, 2015.
C. Edward Peartree,
Director, Office of Defense Trade Controls Policy, Bureau of Political-Military Affairs, U.S. Department of State.

[FR Doc. 2015-13440 Filed 6-1-15; 8:45 am]

BILLING CODE 4710-25-P